DEPARTMENT OF AGRICULTURE

Forest Service

South Deep Management Project, Colville National Forest, Stevens County, WA

AGENCY: Forest Service, USDA.

ACTION: Cancellation notice.

SUMMARY: On January 2, 2002, a Notice of Intent (NOI) to prepare an environmental impact statement (EIS) for the South Deep Management Project on the Three Rivers Ranger District of the Colville National Forest, was published in the Federal Register (67 FR 51). Forest Service has decided to cancel the preparation of this EIS. The NOI is hereby rescinded.

FOR FURTHER INFORMATION CONTACT: Questions may be addressed to James Parker, Environmental Coordinator, Colville National Forest, 650 East Delaware, Republic WA 99166, telephone (509) 775-7462.

Dated: March 10, 2006.
Mimi A. Tryon,
Acting Forest Supervisor.

[FR Doc. 06-2555 Filed 3-15-06; 8:45 am]

BILLING CODE 3410-11-M